DEPARTMENT OF THE TREASURY

Office of the Comptroller of the Currency

12 CFR Part 22

[Docket IDs OCC-2020-0033, OCC-2020-0008]

FEDERAL RESERVE SYSTEM

12 CFR Part 208

[Docket No. R-1742, OP-1720]

FEDERAL DEPOSIT INSURANCE CORPORATION

12 CFR Part 339

RIN 3064-ZA16

FARM CREDIT ADMINISTRATION

12 CFR Part 614

NATIONAL CREDIT UNION ADMINISTRATION

12 CFR Part 760

RIN 3133-AF31, 3133-AF14

Loans in Areas Having Special Flood Hazards; Interagency Questions and Answers Regarding Flood Insurance

Correction

In Rule document 2022-10414, appearing on pages 32826-32895, in the issue of Tuesday, May 31, 2022, make the following correction:

On page 32895, in the third column, the signature block is corrected to read as set forth below:

Michael J. Hsu,
Acting Comptroller of the Currency.
By order of the Board of Governors of the Federal Reserve System.
Ann E. Misback,
Secretary of the Board.
Federal Deposit Insurance Corporation.
Dated at Washington, DC, on January 27, 2022.
James P. Sheesley,
Assistant Executive Secretary.
Dated at McLean, VA, this 9 day of May 2022.
Ashley Waldron,
Secretary, Farm Credit Administration Board.
Melane Conyers-Ausbrooks,
Secretary of the Board, National Credit Union Administration.

[FR Doc. C1-2022-10414 Filed 6-15-22; 8:45 am]

BILLING CODE 0099-10-P